DEPARTMENT OF LABOR

Occupational Safety and Health Administration

[Docket No. OSHA-2009-0025]

Underwriters Laboratories, Inc.: Applications for Expansion of Recognition and Proposed Modification To Update the Nationally Recognized Testing Laboratory (NRTL) Program's List of Appropriate Test Standards

AGENCY: Occupational Safety and Health Administration (OSHA), Labor.

ACTION: Notice.

SUMMARY: In this notice, OSHA announces the applications of Underwriters Laboratories, Inc., for expansion of its scope of recognition as a Nationally Recognized Testing Laboratory and presents the Agency's preliminary finding to grant the applications. Additionally, OSHA proposes to add twenty-two test standards to the NRTL Program's List of Appropriate Test Standards.

DATES: Submit comments, information, and documents in response to this notice, or requests for an extension of time to make a submission, on or before May 7, 2018.

ADDRESSES: Submit comments by any of the following methods:

Electronically: You may submit comments and attachments electronically at: http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit a copy of your comments and attachments to the OSHA Docket Office, Docket No. OSHA-2009-0025, Occupational Safety and Health Administration, U.S. Department of Labor, Room N-3653, 200 Constitution Avenue NW, Washington, DC 20210. Deliveries (hand, express mail, messenger, and courier service) are accepted during the Docket Office's normal business hours, 10:00 a.m. to 3:00 p.m., ET.

Instructions: All submissions must include the Agency name and OSHA docket number (OSHA-2009-0025) for the Information Collection Request (ICR). All comments, including any personal information you provide, are placed in the public docket without change, and may be made available online at http://www.regulations.gov. For further information on submitting comments, see the “Public Participation” heading in the section of this notice titled SUPPLEMENTARY INFORMATION.

Docket: To read or download comments or other material in the docket, go to http://www.regulations.gov or the OSHA Docket Office at the above address. All documents in the docket (including this Federal Register notice) are listed in the http://www.regulations.gov index; however, some information (e.g., copyrighted material) is not publicly available to read or download through the website. All submissions, including copyrighted material, are available for inspection and copying at the OSHA Docket Office. You may also contact Kevin Robinson at the address below to obtain a copy of the ICR.

Extension of comment period: Submit requests for an extension of the comment period on or before May 7, 2018 to the Office of Technical Programs and Coordination Activities, Directorate of Technical Support and Emergency Management, Occupational Safety and Health Administration, U.S. Department of Labor, 200 Constitution Avenue NW, Room N-3655, Washington, DC 20210, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of the Applications for Expansion

The Occupational Safety and Health Administration is providing notice that Underwriters Laboratories, Inc., (UL) is applying for expansion of its current recognition as a NRTL. UL requests the addition of twenty-seven additional test standards to its NRTL scope of recognition.

OSHA recognition of a NRTL signifies that the organization meets the requirements specified in 29 CFR 1910.7. Recognition is an acknowledgment that the organization can perform independent safety testing and certification of the specific products covered within its scope of recognition and is not a delegation or grant of government authority. Recognition enables employers to use products approved by the NRTL to meet OSHA standards that require product testing and certification.

The Agency processes applications by a NRTL for initial recognition and for an expansion or renewal of this recognition, following requirements in Appendix A to 29 CFR 1910.7. This appendix requires that the Agency publish two notices in the Federal Register in processing an application. In the first notice, OSHA announces the application and provides its preliminary finding. In the second notice, the Agency provides its final decision on the application. These notices set forth the NRTL's scope of recognition or modifications of that scope. OSHA maintains an informational web page for each NRTL, including UL, which details the NRTL's scope of recognition. These pages are available from the OSHA website at http://www.osha.gov/dts/otpca/nrtl/index.html.

Each NRTL's scope of recognition includes: (1) The type of products the NRTL may test, with each type specified by its applicable test standard; and (2) the recognized site(s) that has (have) the technical capability to perform the product testing and product-certification activities for test standards within the NRTL's scope.

UL currently has fourteen facilities (sites) recognized by OSHA for product testing and certification, with its headquarters located at: Underwriters Laboratories, Inc. 333 Pfingsten Road, Northbrook, Illinois 60062. A complete list of UL sites recognized by OSHA is available at https://www.osha.gov/dts/otpca/nrtl/ul.html.

II. General Background on the Applications

UL submitted an application, dated May 31, 2017, (OSHA-2009-0025-0020), to expand its recognition to include the addition of 26 additional test standards to UL's scope of recognition. This application was updated on November 1, 2017 (OSHA-2009-0025-0021) to include an additional standard for a total of 27 standards. OSHA staff performed detailed analyses of the application packets and other pertinent information. OSHA did not perform any on-site reviews in relation to these applications.

OSHA preliminarily determined that one of the standards requested in UL's application, UL 2703, “Standard for Mounting Systems, Mounting Devices, Clamping/Retention Devices, and Ground Lugs for Use with Flat-Plate Photovoltaic Modules and Panels,” does not meet the requirements of 29 CFR 1910.7's for an appropriate test standard in OSHA's NRTL Program. This standard is not included on the NRTL Program's List of Appropriate Test Standards. The types of products covered by UL 2703 do not fit into any of the categories covered by OSHA's NRTL Program. Specifically, the standard covers mechanical mounting and support equipment for solar panels, i.e., mechanical products, while OSHA's NRTL Program addresses mainly electrical end products, as well as a few other product categories (e.g., fire detection and mitigation equipment, and Liquid Petroleum (LP) Gas equipment, and other gas-powered equipment). The full list of the types of equipment covered by OSHA's NRTL Program can be viewed at https://www.osha.gov/dts/otpca/nrtl/prodcatg.html. Table 1, lists the appropriate test standards found in UL's application for expansion for testing and certification of products under the NRTL Program.

Table 1—Proposed List of Appropriate Test Standards for Inclusion in UL's NRTL Scope of Recognition
Test standard | Test standard title
*TIA 4950 | Requirements for Battery-Powered, Portable Land Mobile Radio Applications in Class I, II, and III, Division 1, Hazardous (Classified) Locations.
*UL 25A | Standard for Meters for Gasoline and Gasoline/Ethanol Blends with Nominal Ethanol Concentrations up to 85 Percent (E0-E85).
*UL 25B | Meters for Diesel Fuel, Biodiesel Fuel, Diesel/Biodiesel Blends with Nominal Biodiesel Concentrations up to 20 Percent (B20), Kerosene, and Fuel Oil.
*UL 79A | Standard for Power-Operated Pumps for Gasoline and Gasoline/Ethanol Blends with Nominal Ethanol Concentrations up to 85 Percent (E0-E85).
*UL 79B | Standard for Power-Operated Pumps for Diesel Fuel, Biodiesel Fuel, Diesel/Biodiesel Blends with Nominal Biodiesel Concentrations up to 20 Percent (B20), Kerosene, and Fuel Oil.
*UL 87A | Standard for Power-Operated Dispensing Devices for Gasoline and Gasoline/Ethanol Blends with Nominal Ethanol Concentrations up to 85 Percent (E0-E85).
*UL 87B | Power-Operated Dispensing Devices for Diesel Fuel, Biodiesel Fuel, Diesel/Biodiesel Blends with Nominal Biodiesel Concentrations up to 20 Percent (B20), Kerosene, and Fuel Oil.
*UL 486F | Bare and Covered Ferrules.
*UL 567A | Standard for Emergency Breakaway Fittings, Swivel Connectors and Pipe-Connection Fittings for Gasoline and Gasoline/Ethanol Blends with Nominal Ethanol Concentrations up to 85 Percent (E0-E85).
*UL 567B | Standard for Emergency Breakaway Fittings, Swivel Connectors and Pipe-Connection Fittings for Diesel Fuel, Biodiesel Fuel, Diesel/Biodiesel Blends with Nominal Biodiesel Concentrations up to 20 Percent (B20), Kerosene, and Fuel Oil.
*UL 842A | Standard for Valves for Gasoline and Gasoline/Ethanol Blends with Nominal Ethanol Concentrations up to 85 Percent (E0-E85).
*UL 842B | Standard for Valves for Diesel Fuel, Biodiesel Fuel, Diesel/Biodiesel Blends with Nominal Biodiesel Concentrations up to 20 Percent (B20), Kerosene, and Fuel Oil.
UL 962 | Standard for Household and Commercial Furnishings.
*UL 1973 | Standard for Batters for Use in Light Electric Rail (LER) Applications and Stationary Applications.
*UL 2054 | Standard for Household and Commercial Batteries.
*UL 2271 | Standard for Batteries for Use in Light Electric Vehicle (LEV) Applications.
*UL 2586A | Standard for Hose Nozzle Valves for Gasoline and Gasoline/Ethanol Blends with Nominal Ethanol Concentrations up to 85 Percent (E0-E85).
*UL 2586B | Standard for Hose Nozzle Valves for Diesel Fuel, Biodiesel Fuel, Diesel/Biodiesel Blends with Nominal Biodiesel Concentrations up to 20 Percent (B20), Kerosene, and Fuel Oil.
*UL 2775 | Standard for Fixed Condensed Aerosol Extinguishing System Units.
UL 2594 | Standard for Electric Vehicle Supply Equipment.
*UL 4703 | Standard for Photovoltaic Wire.
*UL 8753 | Standard for Field-Replaceable Light Emitting Diode (LED) Light Engines.
UL 60335-2-24 | Household and Similar Electric Appliances—Safety—Part 2-24: Particular Requirements for Refrigerating Appliances, Ice-Cream Appliances and Ice-Makers.
*UL 60730-2-5 | Automatic Electrical Controls for Household and Similar Use, Part 2-5: Particular Requirements for Automatic Electrical Burner Control Systems.
*UL 60947-5-1 | Low-Voltage Switchgear and Controlgear—Part 5-1: Control Circuit Devices and Switching Elements—Electromechanical Control Circuit Devices.
UL 62109-1 | Standard for Safety of Power Converters for Use in Photovoltaic Power Systems—Part 1: General Requirements.
* Represents the standard that OSHA proposes to add to the NRTL Program's List of Appropriate Test Standards.

III. Proposal To Add New Test Standard to the NRTL Program's List of Appropriate Test Standards

Periodically, OSHA will propose to add new test standards to the NRTL List of Appropriate Test Standards following an evaluation of the test standard document. To qualify as an appropriate test standard, the Agency evaluates the document to (1) verify it represents a product category for which OSHA requires certification by a NRTL, (2) verify the document represents an end product and not a component, and (3) verify the document defines safety test specifications (not installation or operational performance specifications).

In this notice, OSHA proposes to add twenty-two new test standards to the NRTL Program's List of Appropriate Test Standards. Table 2, lists the test standards that are new to the NRTL Program. OSHA preliminarily determined that these test standards are appropriate test standards and proposes to include them in the NRTL Program's List of Appropriate Test Standards. OSHA seeks public comment on this preliminary determination.

Table 2—Test Standards OSHA Is Proposing To Add to the NRTL Program's List of Appropriate Test Standards
Test standard | Test standard title
TIA 4950 | Requirements for Battery-Powered, Portable Land Mobile Radio Applications in Class I, II, and III, Division 1, Hazardous (Classified) Locations.
UL 25A | Standard for Meters for Gasoline and Gasoline/Ethanol Blends with Nominal Ethanol Concentrations up to 85 Percent (E0-E85).
UL 25B | Meters for Diesel Fuel, Biodiesel Fuel, Diesel/Biodiesel Blends with Nominal Biodiesel Concentrations up to 20 Percent (B20), Kerosene, and Fuel Oil.
UL 79A | Standard for Power-Operated Pumps for Gasoline and Gasoline/Ethanol Blends with Nominal Ethanol Concentrations up to 85 Percent (E0-E85).
UL 79B | Standard for Power-Operated Pumps for Diesel Fuel, Biodiesel Fuel, Diesel/Biodiesel Blends with Nominal Biodiesel Concentrations up to 20 Percent (B20), Kerosene, and Fuel Oil.
UL 87A | Standard for Power-Operated Dispensing Devices for Gasoline and Gasoline/Ethanol Blends with Nominal Ethanol Concentrations up to 85 Percent (E0-E85).
UL 87B | Power-Operated Dispensing Devices for Diesel Fuel, Biodiesel Fuel, Diesel/Biodiesel Blends with Nominal Biodiesel Concentrations up to 20 Percent (B20), Kerosene, and Fuel Oil.
UL 486F | Bare and Covered Ferrules.
UL 567A | Standard for Emergency Breakaway Fittings, Swivel Connectors and Pipe-Connection Fittings for Gasoline and Gasoline/Ethanol Blends with Nominal Ethanol Concentrations up to 85 Percent (E0-E85).
UL 567B | Standard for Emergency Breakaway Fittings, Swivel Connectors and Pipe-Connection Fittings for Diesel Fuel, Biodiesel Fuel, Diesel/Biodiesel Blends with Nominal Biodiesel Concentrations up to 20 Percent (B20), Kerosene, and Fuel Oil.
UL 842A | Standard for Valves for Gasoline and Gasoline/Ethanol Blends with Nominal Ethanol Concentrations up to 85 Percent (E0-E85).
UL 842B | Standard for Valves for Diesel Fuel, Biodiesel Fuel, Diesel/Biodiesel Blends with Nominal Biodiesel Concentrations up to 20 Percent (B20), Kerosene, and Fuel Oil.
UL 1973 | Standard for Batters for Use in Light Electric Rail (LER) Applications and Stationary Applications.
UL 2054 | Standard for Household and Commercial Batteries.
UL 2271 | Standard for Batteries for Use in Light Electric Vehicle (LEV) Applications.
UL 2586A | Standard for Hose Nozzle Valves for Gasoline and Gasoline/Ethanol Blends with Nominal Ethanol Concentrations up to 85 Percent (E0-E85).
UL 2586B | Standard for Hose Nozzle Valves for Diesel Fuel, Biodiesel Fuel, Diesel/Biodiesel Blends with Nominal Biodiesel Concentrations up to 20 Percent (B20), Kerosene, and Fuel Oil.
UL 2775 | Standard for Fixed Condensed Aerosol Extinguishing System Units.
UL 4703 | Standard for Photovoltaic Wire.
UL 8753 | Standard for Field-Replaceable Light Emitting Diode (LED) Light Engines.
UL 60730-2-5 | Automatic Electrical Controls for Household and Similar Use, Part 2-5: Particular Requirements for Automatic Electrical Burner Control Systems.
UL 60947-5-1 | Low-Voltage Switchgear and Controlgear—Part 5-1: Control Circuit Devices and Switching Elements-Electromechanical Control Circuit Devices.

Because the mechanical equipment covered by UL 2703 does not fall within the type of equipment covered by OSHA's NRTL Program, OSHA preliminary determined that UL 2703 is not an appropriate test standard and does not propose to include it in the NRTL Program's List of Appropriate Test Standards. OSHA also seeks public comment on this preliminary determination.

IV. Preliminary Findings on the Applications

UL submitted acceptable applications for expansion of its scope of recognition. OSHA's review of the application files and related material indicate that UL can meet the requirements prescribed by 29 CFR 1910.7 for expanding its recognition to include the addition of the 26 appropriate test standards for NRTL testing and certification listed above. This preliminary finding does not constitute an interim or temporary approval of UL's applications.

OSHA welcomes public comment as to whether UL meets the requirements of 29 CFR 1910.7 for expansion of its recognition as a NRTL. Comments should consist of pertinent written documents and exhibits. Commenters needing more time to comment must submit a request in writing, stating the reasons for the request by the due date for comments. OSHA will limit any extension to 10 days unless the requester justifies a longer time period. OSHA may deny a request for an extension if it is not adequately justified. To obtain or review copies of the exhibits identified in this notice, as well as comments submitted to the docket, contact the Docket Office, Occupational Safety and Health Administration, U.S. Department of Labor, listed in ADDRESSES. These materials also are available online at http://www.regulations.gov under Docket No. OSHA-2009-0025.

OSHA staff will review all comments to the docket submitted in a timely manner and, after addressing the issues raised by these comments, make a recommendation to the Assistant Secretary for Occupational Safety and Health on whether to grant UL's applications for expansion of its scope of recognition. The Assistant Secretary will make the final decision on granting the applications. In making this decision, the Assistant Secretary may undertake other proceedings prescribed in Appendix A to 29 CFR 1910.7.

OSHA will publish a public notice of this final decision in the Federal Register.

Authority and Signature

Loren Sweatt, Deputy Assistant Secretary of Labor for Occupational Safety and Health, authorized the preparation of this notice. Accordingly, the Agency is issuing this notice pursuant to 29 U.S.C. 657(g)(2), Secretary of Labor's Order No. 1-2012 (77 FR 3912, Jan. 25, 2012), and 29 CFR 1910.7.

Signed at Washington, DC, on April 16, 2018.
Loren Sweatt,
Deputy Assistant Secretary of Labor for Occupational Safety and Health.

[FR Doc. 2018-08256 Filed 4-19-18; 8:45 am]

BILLING CODE 4510-26-P